DEPARTMENT OF JUSTICE

Certification of the Attorney General; Bethel Census Area, AK

In accordance with Section 8 of the Voting Rights Act, as amended, 42 U.S.C. 1973f, I hereby certify that in my judgment the appointment of federal observers is necessary to enforce the guarantees of the Fourteenth and Fifteenth Amendments of the Constitution of the United States in the Bethel Census Area, Alaska. This area is included within the scope of the determinations of the Attorney General and the Director of the Census made under Section 4(b) of the Voting Rights Act, 42 U.S.C. 1973b(b), and published in the Federal Register on October 22, 1975 (40 FR 49,422).

Dated: October 1, 2009.
Eric H. Holder Jr.,
Attorney General of the United States.

[FR Doc. E9-24109 Filed 10-2-09; 11:15 am]

BILLING CODE 4410-13-P